DEPARTMENT OF ENERGY

Federal Energy Regulatory Commission

[Docket No. RP04-265-000]

Northern Natural Gas Company; Notice of Technical Conference

June 24, 2004.

The Commission, in its order issued May 21, 2004,¹ directed that a technical conference be held to discuss and resolve Northern Natural Gas' proposal to modify the rate schedules to allow shippers to consolidate multiple Firm Deferred Delivery (“FDD”) agreements into one operating agreement and transfer account balances between rate schedules FDD, Interruptible Deferred Delivery (“IDD”) and Preferred Deferred Delivery (“PDD”) without incurring injection or withdrawal fees.

¹ Northern Natural Gas Company, 107 FERC ¶ 61,178 (2004).

Take notice that a technical conference will be held on Tuesday, July 27, 2004 at 10 a.m. (e.s.t.), in room 3M-A/B at the offices of the Federal Energy Regulatory Commission, 888 First Street, NE., Washington, DC 20426.

All interested parties and staff are permitted to attend. For further information please contact: Melissa Mitchell at (202) 502-6038.

Magalie R. Salas,
Secretary.

[FR Doc. E4-1462 Filed 6-30-04; 8:45 am]

BILLING CODE 6717-01-P